DEPARTMENT OF COMMERCE

International Trade Administration

[A-570-848]

Freshwater Crawfish Tail Meat From the People's Republic of China: Initiation of New-Shipper Antidumping Administrative Review

AGENCY: Import Administration, International Trade Administration, Department of Commerce.

ACTION: Notice of initiation of new-shipper antidumping administrative review.

SUMMARY: The Department of Commerce (the Department) has received a request from China Kingdoma Import & Export Co., Ltd. (China Kingdoma), Rizhao Riyuan Marine and Food Products Co., Ltd. (Rizhao Riyuan), Nantong Shengfa Frozen Food Co., Ltd. (Nantong Shengfa), and Weshan Fukang Foodstuffs Co., Ltd. (Weishan Fukang) to conduct new-shipper administrative reviews of the antidumping duty order on freshwater crawfish tail meat from the People's Republic of China (PRC). In accordance with the Department's current regulations, we are initiating this administrative review.

EFFECTIVE DATE: June 1, 2000.

FOR FURTHER INFORMATION CONTACT: Thomas Gilgunn or Maureen Flannery, AD/CVD Enforcement, Import Administration, International Trade Administration, U.S. Department of Commerce, 14th Street and Constitution Avenue, N.W., Washington, D.C. 20230; telephone: (202) 482-0648 or (202) 482-3020, respectively.

The Applicable Statute and Regulations

Unless otherwise indicated, all citations to the statute are references to the provisions effective January 1, 1995, the effective date of the amendments made to the Tariff Act of 1930 (the Act) by the Uruguay Round Agreements Act. In addition, unless otherwise indicated, all citations to the Department's regulations are to the current regulations, codified at 19 CFR Part 351, (1999).

Background

On March 29, 2000 and March 31, 2000, the Department received timely requests, in accordance with section 751 (a)(2)(B) of the Act and 19 CFR 351.214(c), for new shipper reviews of this antidumping duty order which has a September anniversary date.

Initiation of Review

In its March 29, 2000 request for review, Rizhao Riyuan certified that it did not export the subject merchandise to the United States during the period of investigation (POI) and that it is not affiliated with any company which exported subject merchandise to the United States during the POI. Rizhao Riyuan further certified that its export activities are not controlled by the central government of the PRC.

In its March 29, 2000 request for review, Nantong Shengfa certified that it did not export the subject merchandise to the United States during the POI and that it is not affiliated with any company which exported subject merchandise to the United States during the POI. Nantong Shengfa further certified that its export activities are not controlled by the central government of the PRC.

In its March 31, 2000 request for review, China Kingdoma certified that it did not export the subject merchandise to the United States during the POI and that it is not affiliated with any company which exported subject merchandise to the United States during the POI. China Kingdoma further certified that its export activities are not controlled by the central government of the PRC.

In its March 31, 2000 request for review, Weishan Fukang certified that it did not export the subject merchandise to the United States during the POI and that it is not affiliated with any company which exported subject merchandise to the United States during the POI. Weishan Fukang further certified that its export activities are not controlled by the central government of the PRC. All of the above requests also included all documentation required under 19 C.F.R. 351.214(b)(2)(iv).

In accordance with section 751(a)(2)(B) and 19 CFR 351.214(d), we are initiating new-shipper reviews of the antidumping duty order on freshwater crawfish tail meat from the PRC.

In accordance with 19 CFR 351.214(g)(B) of the Department's regulations, the period of review (POR) for a new-shipper review initiated in the month immediately following the semiannual anniversary month will be the six-month period immediately preceding the semiannual anniversary month. Therefore, the POR for these new-shippers is:

Antidumping duty proceeding | Period to be reviewed
Fresh Water Crawfish Tail Meat from the PRC, A-570-848:
China Kingdoma Import & Export Co., Ltd | 9/01/99-2/29/00
Rizhao Riyuan Marine and Food Products Co. Ltd | 9/01/99-2/29/00
Nantong Shengfa Frozen Food Co., Ltd | 9/01/99-2/29/00
Weshan Fukang Foodstuffs Co., Ltd | 9/01/99-2/29/00

Concurrent with publication of this notice and in accordance with 19 CFR 351.214(e), we will instruct the U.S. Customs Service to allow, at the option of the importer, the posting of a bond or security in lieu of a cash deposit for each entry of the merchandise exported by the companies listed above, until the completion of the review.

The interested parties must submit applications for disclosure under administrative protective order in accordance with 19 CFR 351.305 and 351.306.

This initiation and notice are in accordance with section 751(a) of the Act (19 U.S.C. 1675(a)) and 19 CFR 351.214.

Dated: May 25, 2000.
Edward C. Yang,
Acting Deputy Assistant Secretary, Ad/CVD Enforcement Group III.

[FR Doc. 00-13709 Filed 5-31-00; 8:45 am]

BILLING CODE 3510-DS-P